ENVIRONMENTAL PROTECTION AGENCY

[ER-FRL-8588-6]

Environmental Impacts Statements; Notice of Availability

Responsible Agency: Office of Federal Activities, General Information (202) 564-1399 or http://www.epa.gov/compliance/neap/. Weekly receipt of Environmental Impact Statements Filed 12/08/2008 Through 12/12/2008. Pursuant to 40 CFR 1506.9.

EIS No. 20080513, Draft EIS, AFS, AK, Central Kupreanof Timber Harvest Project, Proposes To Harvest up to 70.2 Million Board Feet of Timber, Kupreanof Island, Petersburg Ranger District, Tongass National Forest, AK, Comment Period Ends: 02/02/2009, Contact: Tiffany Benna 907-772-3871.

EIS No. 20080514, Final EIS, AFS, ID, Corralled Bear Project, Management of Vegetation, Hazardous Fuels, and Access, Plus Watershed Improvements, Palouse Ranger District, Clearwater National Forest, Latah County, ID, Wait Period Ends: 01/20/2009, Contact: Kara Chadwick 208-875-1131.

EIS No. 20080515, Final EIS, BLM, WY, West Antelope Coal Lease Application (Federal Coal Lease Application WYW163340), Implementation, Converse and Campbell Counties, WY, Wait Period Ends: 01/20/2009, Contact: Sarah Bucklin 307-261-7541.

EIS No. 20080516, Draft EIS, NPS, AK, LEGISLATIVE—Glacier Bay National Park Project, Authorize Harvest of Glaucous-Winged Gull Eggs by the Huna Tlingit, Implementation, AK, Comment Period Ends: 03/06/2009, Contact: Mary Beth Moss 907-317-1270.

EIS No. 20080517, Final EIS, FHW, NY, Kosciuszko Bridge Project, Propose Rehabilitation or Replacement a 1.1 mile Segment Brooklyn-Queens Expressway (-278) from Morgan Avenue in Brooklyn and the Long Island Expressway (1495) in Queens, Kings and Queens Counties, NY, Wait Period Ends: 01/23/2009, Contact: Jeffrey Kolb 518-431-4125.

EIS No. 20080518, Draft EIS, BLM, NV, Bald Mountain Mine Norther Operations Area Project, Proposes To Expand Current Mining Operations at Several Existing Pits, Rock Disposal Areas, Heap Leach Pads, Processing Facilities, and Interpit Area, Combining the Bald Mountain Mine Plan of Operations Boundary and the Mooney Basin Operation Area Boundary, White Pine County, NV, Comment Period Ends: 02/02/2009, Contact: Lynn Bjorklund 775-289-1893.

EIS No. 20080519, Draft EIS, NPS, PA, White-tailed Deer Management Plan, Develop a Deer Management Strategy That Supports Protection, Preservation and Restoration of Native Vegetation, Implementation, Valley Forge National Historical Park, King of Prussia, PA, Comment Period Ends: 02/17/2009, Contact: Kristina M. Heister 610-783-1008.

EIS No. 20080520, Draft EIS, CGD, 00, USCG Pacific Operations: Districts 11 Area, California and Districts 13 Area, Oregon and Washington, Improve the Protection and Conservation of Marine Protected Species and Marine Protected Areas, CA, OR and WA, Comment Period Ends: 02/17/2009, Contact: Lt. Jeff Bray 202-372-3752.

EIS No. 20080521, Draft EIS, NPS, ND, Theodore Roosevelt National Park, Elk Management Plan, Implementation, Billing and McKenzie Counties, ND, Comment Period Ends: 03/19/2009, Contact: Valerie Naylor 701-623-4466.

EIS No. 20080522, Final EIS, NRC, GA, GENERIC—License Renewal of Nuclear Plants, Supplement 34 to NUREG-1437, Regarding Vogtle Electric Generating Plant Units 1 and 2 (VEGP) near Waynesboro, GA, Comment Period Ends: 01/20/2009, Contact: Samuel Hernandez 301-415-4049.

EIS No. 20080523, Draft EIS, BLM, 00, UNEV Pipeline Project, Construction of a 399-Mile Long Main Petroleum Products Pipeline, Salt Lake, Tooele, Juab, Millard, Iron, and Washington Counties, UT, and Clark County, NV, Comment Period Ends: 02/02/2009, Contact: Joe Incardine 801-524-3833.

EIS No. 20080524, Draft EIS, STB, AK, Northern Rail Extension Project, Construct and Operate a Rail Line Between Norther Pole, AK, and Delta Junction, AK, Comment Period Ends: 02/02/2009, Contact: Dave Navecky 202-245-0294.

EIS No. 20080525, Final EIS, FHW, NJ, I-295/I-76/Route 42 Direct Connection Project, To Improve Traffic Safety and Reduce Traffic Congestion, Funding and U.S. Army COE Section 10 and 404 Permits, Borough of Bellmawr, Borough of Mount Ephraim and Gloucester City, Camden County, NJ, Wait Period Ends: 01/20/2009, Contact: Matthew Zeller 609-637-4200.

EIS No. 20080526, Final EIS, IBR, CO, Southern Delivery System Project, Water Supply Development, Execution of up to 40-year Contracts for Use of Fryingpan-Arkansas Project Facilities, Special Use Permit, El Paso County, CO, Wait Period Ends: 01/20/2009, Contact: Kara Lamb 970-663-3212.

Amended Notices

EIS No. 20080418, Draft EIS, DOE, 00, PROGRAMMATIC—Global Nuclear Energy Partnership (GNEP) Program, To Support a Safe, Secure, and Sustainable Expansion of Nuclear Energy, Both Domestically and Internationally, (DOE/EIS-0396), Comment Period Ends: 03/16/2009, Contact: Francis G. Schwartz 866-645-7803.

Revision of FR Notice Published 10/17/2008: Extending Comment Period 12/16/2008 to 03/16/2009.

EIS No. 20080448, Draft EIS, NPS, AZ, Fire Management Plan, Management of Wildland and Prescribed Fire, Protection of Human Life and Property Restoration and Maintenance of Fire Dependent Ecosystems, and Reduction of Hazardous Fuels, Grand Canyon National Park, Coconino County, AZ, Comment Period Ends: 01/21/2009, Contact: Chris Marks 986-606-1050.

Revision to FR Notice Published: Extending Comment Period from12/22/2008 to 01/21/2009.

EIS No. 20080469, Draft EIS, FTA, HI, Honolulu High-Capacity Transit Corridor Project, Provide High-Capacity Transit Service on O'ahu From Kapolei to the University of Hawaii at Manoa and Waikiki, City and County of Honolulu, O'ahu, Hawaii, Comment Period Ends: 02/06/2009, Contact: Ted Matley 415-744-3133.

Revision to FR Notice Published 11/21/2008: Extending Comment Period from 01/07/2009 to 02/06/2009.

Dated: December 16, 2008.
Robert W. Hargrove,
Director, NEPA Compliance Division, Office of Federal Activities.

[FR Doc. E8-30208 Filed 12-18-08; 8:45 am]

BILLING CODE 6560-50-P